DEPARTMENT OF LABOR

Employment and Training Administration

[TA-W-55,585]

Blue Ridge Paper Products, Morristown, NJ; Notice of Termination of Investigation

Pursuant to section 221 of the Trade Act of 1974, as amended, an investigation was initiated on September 10, 2004 in response to a petition filed by a state agency representative on behalf of workers at Blue Ridge Paper Products, Morristown, New Jersey.

All workers were separated from the subject facility more than one year before the date of the petition. Section 223 (b) of the Act specifies that no certification may apply to any worker whose last separation occurred more than one year before the date of the petition. Consequently, further investigation in this case would serve no purpose, and the investigation has been terminated.

Signed at Washington, DC, this 20th day of September 2004.
Richard Church,
Certifying Officer, Division of Trade Adjustment Assistance.

[FR Doc. E4-2546 Filed 10-7-04; 8:45 am]

BILLING CODE 4510-30-P